COMMISSION ON CIVIL RIGHTS

Sunshine Act Notice

AGENCY: U.S. Commission on Civil Rights.

Date and Time: Friday, November 12, 2004, 9:30 a.m.

Place: U.S. Commission on Civil Rights, 624 9th Street, NW., Room 540, Washington, DC 20425.

Status:

Agenda

I. Approval of Agenda

II. Approval of Minutes of October 8, 2004 Meeting

III. Announcements

IV. Staff Director's Report

V. State Advisory Committee Appointments for Hawaii, Maine, Ohio, New Mexico, Rhode Island, Vermont, and Washington

VI. “Redefining Rights in America: The Civil Rights Record of the George W. Bush Administration, 2001-2004” Report

VII. “Closing the Achievement Gap: The Impact of Standards-Based Education Reform on Student Performance” Report

VIII. Future Agenda Items

10:30 a.m.—Briefing on Voting and Election Reform: Was America Ready To Vote?

Contact Person for Further Information: Les Jin, Press and Communications (202) 376-7700.

Debra A. Carr,
Deputy General Counsel.

[FR Doc. 04-24790 Filed 11-2-04; 4:30 pm]

BILLING CODE 6335-01-M